DEPARTMENT OF ENERGY

Federal Energy Regulatory Commission

[Docket No. RP02-361-016]

Gulfstream Natural Gas System, L.L.C.; Notice of Compliance Filing

November 20, 2003.

Take notice that on November 17, 2003, Gulfstream Natural Gas System, L.L.C. (Gulfstream) tendered for filing as part of its FERC Gas Tariff, Original Volume No. 1, Sub Original Sheet Nos. 8L and 8M, to be effective October 1, 2003.

Gulfstream states that it is filing these tariff sheets and related agreements to comply with the Commission's October 31, 2003 Order in the captioned docket regarding a negotiated rate transaction under Rate Schedule ITS.

Gulfstream states that copies of its filing have been mailed to all parties on the Commission's Official Service List in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00411 Filed 11-28-03; 8:45 am]

BILLING CODE 6717-01-P